DEPARTMENT OF HEALTH AND HUMAN SERVICES

Food and Drug Administration

21 CFR Part 558

New Animal Drugs for Use in Animal Feeds

CFR Correction

In Title 21 of the Code of Federal Regulations, Parts 500 to 599, revised as of April 1, 2011, on page 490, in § 558.500, (e)(1)(i) is reinstated to read as follows;

§ 558.500 Ractopamine.

* * * * *

(e) * * *

(1) * * *

Ractopamine in grams/ton | Combination in grams/ton | Indications for use | Limitations | Sponsor
(i) 4.5 to 9 |  | For increased rate of weight gain, improved feed efficiency, and increased carcass leanness in finishing swine, weighing not less than 150 lbs, fed a complete ration containing at least 16% crude protein for the last 45 to 90 lbs of gain prior to slaughter | Feed continuously as sole ration | 000986

* * * * *

[FR Doc. 2012-5838 Filed 3-8-12; 8:45 am]

BILLING CODE 1505-01-D